DEPARTMENT OF ENERGY

Western Area Power Administration

Interconnection of the Proposed Hyde County Wind Energy Center Project (DOE/EIS-0461), and Proposed Crowned Ridge Wind Energy Center Project (DOE/EIS-0462)

AGENCY: Western Area Power Administration, DOE.

ACTION: Notice of Extension of Scoping Comment Period.

SUMMARY: Western Area Power Administration (Western) published separate Notices of Intent to prepare environmental impact statements (EISs) for the Hyde County Wind Energy Center Project and the Crowned Ridge Wind Energy Center Project in the Federal Register on November 30, 2010. Both Notices of Intent specified a 45-day public scoping period, which would end on January 14, 2011. Western received a request for an extension of the public scoping period deadline to January 30, 2010, due to the holidays. Western is granting that request, and by this notice and local advertising is extending the formal scoping period to midnight Monday, January 31, 2011.

DATES: The public scoping period commenced with the publication of the Federal Register notices on November 30, 2010, and will, with the extension of time, end on midnight, January 31, 2011. Western will consider all comments on the scope of the EISs received or postmarked by that date. The public is invited to submit comments on either proposed project at any time during the EIS process.

ADDRESSES: Oral or written comments on the scope of either proposed project may be mailed or e-mailed to Matt Marsh, Upper Great Plains Regional Office, Western Area Power Administration, P.O. Box 35800, Billings, MT 59107-5800, e-mail MMarsh@wapa.gov, telephone (800) 358-3415.

FOR FURTHER INFORMATION CONTACT: For additional information on the proposed projects, the EIS process, or to receive a copy of either Draft EIS when they are published, contact Matt Marsh at the address above. For general information on the DOE's NEPA review process, contact Carol M. Borgstrom, Director, Office of NEPA Policy and Compliance, GC-54, U.S. Department of Energy, 1000 Independence Avenue, SW., Washington, DC 20585-0119, telephone (202) 586-4600 or (800) 472-2756, facsimile (202) 586-7031.

SUPPLEMENTARY INFORMATION: NextEra Energy Resources (NextEra) applied to interconnect its proposed 150-megawatt (MW) Hyde County Wind Energy Center Project, located in Hyde County, South Dakota, with the Western's existing Fort Thompson Substation in Buffalo County, South Dakota. NextEra has also applied to interconnect its proposed 150-MW Crowned Ridge Wind Energy Center Project with Western's existing Watertown Substation in Codington County, South Dakota. The proposed Project would be located in Codington and Grant counties, South Dakota. Western is preparing separate EISs on the proposals to interconnect the projects in accordance with NEPA (42 U.S.C. 4321-4347); DOE NEPA Implementing Procedures (10 CFR part 1021); and the CEQ regulations for implementing NEPA (40 CFR parts 1500-1508).¹

¹ On October 4, 1999, DOE's Assistant Secretary for Environmental, Safety and Health delegated to Western's Administrator the authority to approve EISs for integrating transmission facilities with Western's transmission grid.

Separate Notices of Intent were published in the Federal Register for both proposed projects on November 30, 2010 (75 FR 74040 for Hyde County and 75 FR 74042 for Crowned Ridge). Scoping meetings were held on December 14, 2010, in Highmore, South Dakota, for the Hyde County Project, and on December 15, 2010, in Watertown, South Dakota, for the Crowned Ridge Project. The Notices of Intent specified a 45-day public scoping period, which would end on January 14, 2011. One commenter, writing on his own behalf and that of other area landowners, has requested an extension of the public scoping period deadline to January 30, 2011, due to the holidays. Western is granting that request, and by this notice and local advertising is extending the formal scoping period to midnight Monday, January 31, 2011.

Dated: January 10, 2011.
Timothy J. Meeks,
Administrator.

[FR Doc. 2011-897 Filed 1-14-11; 8:45 am]

BILLING CODE 6450-01-P